DEPARTMENT OF TRANSPORTATION

Federal Transit Administration

Environmental Impact Statement for a Proposed Urban Rail system in Austin, TX

AGENCY: Federal Transit Administration, DOT.

ACTION: Notice of Intent to Prepare an Environmental Impact Statement.

SUMMARY: The Federal Transit Administration (FTA), as the Federal lead agency, and the City of Austin (the City) intend to prepare an Environmental Impact Statement (EIS) for the proposed Urban Rail system in Austin, Texas. The EIS will be prepared in accordance with regulations implementing the National Environmental Policy Act (NEPA), as well as provisions of the recently enacted Safe, Accountable, Flexible, Efficient Transportation Equity Act: A Legacy for Users (SAFETEA-LU). The proposed project, described more completely within, is an Urban Rail System, similar to Streetcar, that would connect key activity centers within Central Austin—Mueller Transit-Oriented Redevelopment (Mueller), the University of Texas at Austin (UT) campus, the State Capitol Complex (Capitol), the central business district (CBD), and Austin-Bergstrom International Airport (ABIA) with each other and to emerging regional transportation network nodes for commuter rail, regional rail, and rapid bus in Austin, Travis County, Texas. The purpose of this notice is to alert interested parties regarding the intent to prepare the EIS, to provide information on the nature of the proposed project and possible alternatives, and to invite public participation in the EIS process.

DATES: Written comments on the scope of the EIS, including the project's purpose and need, the alternatives to be considered, the impacts to be evaluated, and the methodologies to be used in the evaluations should be sent to Mr. Scott Gross, P.E., Study Manager, City of Austin Transportation Department on or before Friday, April 29, 2011. Written comments should be submitted at least two weeks after the final scoping meeting or at least 30 days after publication of the NOI, whichever date is later. Two public scoping meetings will be held by FTA during which questions about the project will be addressed and written comments will be accepted. The scoping meetings will be held on the following dates:

• Monday, April 4, 2011; 2 p.m. to 5 p.m.; at the Austin Convention Center (Meeting Room 3 on first floor), 500 E. Cesar Chavez Street, Austin, TX 78709, Telephone (512) 404-4000.

• Wednesday, April 6, 2011; 5 p.m. to 8 p.m.; at the Southwest Educational Development Laboratory (SEDL) (Conference Room on first floor) in the Mueller Redevelopment, 4700 Mueller Boulevard, Austin, TX 78723, Telephone (512) 476-6861.

Three local agency public outreach meetings, at which information about the project will be provided, will be held on the following dates:

• Thursday, April 7, 2011; 11 a.m. to 2 p.m.; at the AT&T Executive Education and Conference Center (Classroom 103 on first floor), 1900 University Avenue, Austin, TX 78705, Telephone (512) 404-1900.

• Thursday, April 7, 2011; 5 p.m. to 8 p.m.; at the George Washington Carver Museum (Museum Foyer), 1161 Angelina Street, Austin, TX 78702, Telephone (512) 974-4926.

• Saturday, April 9, 2011; 11 a.m. to 2 p.m.; at the Ruiz Branch Library (Meeting Rooms), 1600 Grove Boulevard, Austin, TX 78741, Telephone (512) 974-7500.

The buildings used for the meetings are accessible to persons with disabilities. Any individual who requires special assistance, such as a sign language interpreter, to participate in the meetings should contact Marión Sánchez at Estilo Communications (512)-477-1018 or marion@estilopr.com, five days prior to the meeting.

Information describing the project purpose and need and the alternatives proposed for analysis will be available at the meetings and on the project Web site at http://www.austinstrategicmobility.com/resources/urban-rail-project. Paper copies of the information materials may also be obtained from Mr. Scott Gross, P.E., Study Manager, City of Austin Transportation Department at (512) 974-5621 or e-mail scott.gross@ci.austin.tx.us. Representatives of Native American Tribal governments and of all Federal, State, regional and local agencies that may have an interest in any aspect of the project will be invited to be participating or cooperating agencies, as appropriate.

ADDRESSES: Written comments on the scope of the EIS, including the project's purpose and need, the alternatives to be considered, the impacts to be evaluated, and the methodologies to be used in the evaluations will be accepted at the public scoping meetings or they may be sent to: Mr. Scott Gross, P.E., Study Manager, City of Austin Transportation Department, 505 Barton Springs Road, Suite 800, Austin, TX 78704, e-mail scott.gross@ci.austin.tx.us.

FOR FURTHER INFORMATION CONTACT: Ms. Julieann Dwyer, Environmental Protection Specialist, Federal Transit Administration Region VI, 819 Taylor Street, Room 8A36, Fort Worth, TX 76102, phone 817-978-0550, e-mail julieann.dwyer@dot.gov.

SUPPLEMENTARY INFORMATION:

Scoping

FTA and the City of Austin invite all interested individuals and organizations, public agencies, and Native American Tribes to comment on the scope of the EIS for the proposed Urban Rail system, including the project's purpose and need, the alternatives to be studied, the impacts to be evaluated, and the evaluation methods to be used. Comments should address (1) feasible alternatives that may better achieve the project's purpose and need with fewer adverse impacts, and (2) any significant environmental impacts relating to the alternatives.

“Scoping” as described in the regulations implementing the National Environmental Policy Act (NEPA) (Title 40 of the Code of Federal Regulations (CFR) 1501.7) has specific and fairly limited objectives, one of which is to identify the significant issues associated with alternatives that will be examined in detail in the document, while simultaneously limiting consideration and development of issues that are not truly significant. It is in the NEPA scoping process that potentially significant environmental impacts— those that give rise to the need to prepare an environmental impact statement—should be identified; impacts that are deemed not to be significant need not be developed extensively in the context of the impact statement, thereby keeping the statement focused on impacts of consequence consistent with the ultimate objectives of the NEPA implementing regulations—“to make the environmental impact statement process more useful to decision makers and the public; and to reduce paperwork and the accumulation of extraneous background data, in order to emphasize the need to focus on real environmental issues and alternatives * * * [by requiring] impact statements to be concise, clear, and to the point, and supported by evidence that agencies have made the necessary environmental analyses” (Executive Order 11991, of May 24, 1977). Transit projects may also generate environmental benefits; these should be highlighted as well—the impact statement process should draw attention to positive impacts, not just negative impacts.

Once the scope of the environmental study, including significant environmental issues to be addressed, is settled, an annotated outline of the document will be prepared and shared with participating agencies and posted on the project Web site. The outline serves at least three worthy purposes, including (1) Documenting the results of the scoping process; (2) contributing to the transparency of the process; and (3) providing a clear roadmap for concise development of the environmental document.

Purpose and Need for the Project

The purpose of the Urban Rail system is to improve the mobility, connectivity, and sustainability of Central Austin—the region's core—by providing greater mobility options; improving person-moving capacity; improving access and linkages to major activity centers and commuter and regional rail; supporting the City's environmental, public health, and economic development goals; and encouraging investment.

The need for the proposed Urban Rail system is based on the following considerations for Central Austin: A need for direct connectivity between Mueller Redevelopment, the University of Texas, the State Capitol Complex, the central business district, and Austin-Bergstrom International Airport; a need for a direct link between existing and planned passenger rail systems at opposite sides of downtown; a need for increased transportation network capacity in constrained rights-of-way through established neighborhoods; a need for additional alternatives to single-occupancy/privately owned vehicles; a need to attract and concentrate development within the region's core; a need to improve air quality by reducing the growth of automobile emissions; and a need to support the City's environmental, public health, and economic development goals.

Alternatives

The City of Austin Transportation Department (ATD) completed the Central Austin Transit Study (CATS) Alternatives Evaluation in July 2010, which evaluated potential route, technology, and investment alternatives. The CATS is posted on the project Web site. ATD recommended Urban Rail as the modal option on the alignment described above in July 2010, after evaluating three investment alternatives: No-Build, Better Bus (TSM), and Urban Rail. The Better Bus (TSM) Alternative, as described in detail in the CATS, was considered per FTA New Starts requirements and will not be examined further for NEPA purposes because it does not meet the purpose and need of the proposed action. Accordingly, the Urban Rail Alternative and the No-Build Alternative are proposed to be evaluated in the EIS. These two NEPA alternatives are described as follows:

No-Build Alternative: The No-Build Alternative is defined as the existing transportation system, plus any committed transportation improvements. Committed transportation improvements include the highway and transit projects in CAMPO's current fiscally constrained long-range transportation plan, CAMPO 2035 Plan, as amended, except for the proposed Urban Rail system. The No-Build Alternative serves as the NEPA baseline against which the environmental effects of other alternatives, including the proposed project, are measured. Under the No-Build Alternative, the transit network within the project area is projected to be substantially the same as it is now, with bus service adjusted to meet anticipated demand. All elements of the No-Build Alternative are included in each of the other alternatives.

Urban Rail Alternative: The Urban Rail Alternative would utilize modern streetcar technology on the alignment described above, along with all of the elements of the No‐Build Alternative. Urban Rail is the City of Austin's term for an overhead‐electric powered fixed‐guideway service that blends the operational characteristics of modern streetcar and light rail transit (LRT). Urban Rail may use shared street or exclusive rights-of-way with single- or multi-car trains, boarding passengers at track level or car floor level.

Other refinements to the Urban Rail Alternative will be considered as part of the EIS alternatives' evaluation process, including refinement of the proposed alignment, Lady Bird Lake crossing options, project termini, operating plans, stop locations, vehicle storage and maintenance facility location, and/or design alternatives, such as median-running vs. curb-running location within the preferred alignment. While the environmental process will examine the entire 16.5 mile system, an initial phase or First Investment Segment (FIS), consisting of a minimum operating segment (MOS), will be identified within this NEPA process and may be constructed and operated as a starter system, with the remainder being constructed during subsequent phases.

In addition to the alternatives described above, other transit alternatives identified through the public and agency scoping process will be evaluated for potential inclusion in the EIS.

EIS Process and the Role of Participating Agencies and the Public

The regulations implementing NEPA, as well as provisions of the Safe, Accountable, Flexible, Efficient Transportation Equity Act: A Legacy for Users (SAFETEA-LU), call for public involvement in the EIS process. Section 6002 of SAFETEA-LU (23 U.S.C. 139) require that FTA and the City do the following: (1) Extend an invitation to other Federal and non-Federal agencies and Native American Tribes that may have an interest in the proposed project to become “participating agencies;” (2) provide an opportunity for involvement by participating agencies and the public to help define the purpose and need for a proposed project, as well as the range of alternatives for consideration in the EIS; and (3) establish a plan for coordinating public and agency participation in, and comment on, the environmental review process. Any Federal or non-Federal agency or Native American Tribe interested in the proposed project that does not receive an invitation to become a participating agency should notify at the earliest opportunity the Project Manager identified above under ADDRESSES.

A comprehensive public involvement program and a Coordination Plan for public and interagency involvement will be developed for the project and posted on the project's Web site at http://www.austinstrategicmobility.com/resources/urban-rail-project. The public involvement program includes a full range of activities including maintaining the project Web site and outreach to local officials, community and civic groups, and the public. Specific activities or events for involvement will be detailed in the project's public participation plan.

Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific written request for a complete printed set of environmental documents is received by the close of the scoping process by the Project Manager identified under ADDRESSES, FTA and its grantees will distribute only the executive summary and a Compact Disc (CD) of the complete environmental document. A complete printed set of the environmental document will be available for review at the project sponsor's offices and elsewhere; an electronic copy of the complete environmental document will also be available on the project Web site.

Other

The City is expecting to seek New or Small Starts funding for some or all phases of the proposed project under 49 United States Code 5309 and will, therefore, be subject to New Starts regulations (49 Code of Federal Regulations (CFR) part 611) at some point in the project development process. The New and Small Starts regulations also require the submission of certain project justification and local financial commitment information to support a request to FTA for approval of entry into the Preliminary Engineering phase of the New Starts review process. Pertinent New Starts evaluation criteria will be included in the EIS.

The EIS will be prepared in accordance with NEPA and its implementing regulations issued by the Council on Environmental Quality (40 CFR parts 1500-1508) and with the FTA/Federal Highway Administration regulations “Environmental Impact and Related Procedures” (23 CFR part 771). Related environmental procedures to be addressed during the NEPA process include, but are not limited to, Executive Order 12898 on Environmental Justice; Section 106 of the National Historic Preservation Act; and Section 4(f) of the DOT Act (49 U.S.C. 303).

Issued on: March 2, 2011.
Blas M. Uribe,
Deputy Regional Administrator, Federal Transit Administration Region VI, Fort Worth, Texas.

[FR Doc. 2011-5201 Filed 3-7-11; 8:45 am]

BILLING CODE 4910-57-P